DEPARTMENT OF JUSTICE

Notice of Lodging of Proposed Partial Consent Decree Under the Clean Water Act

On February 10, 2015, the Department of Justice lodged a proposed Partial Consent Decree with the United States District Court for the Middle District of Pennsylvania in the lawsuit entitled United States and Commonwealth of Pennsylvania Department of Environmental Protection v. Capital Region Water and the City of Harrisburg, PA, Civil Action No. 1:15-cv-00291-WWC.

The United States and Commonwealth of Pennsylvania Department of Environmental Protection filed this lawsuit under the Clean Water Act and Pennsylvania Clean Streams Law against Capital Region Water and the City of Harrisburg, PA, alleging violations of Section 301 of the Clean Water Act, 33 U.S.C. 1311, and Sections 3, 201, 202 and 401 of the Pennsylvania Clean Streams Law, 35 Pa. Stat. Ann. sections 691.3, 691.201, 691.202 and 691.401, for unpermitted discharges of sewage from the sewer system in Harrisburg, including dry weather combined sewer overflows, failure to develop a Long Term Control Plan (“LTCP”) meeting the requirements of EPA's 1994 Combined Sewer Overflow Control Policy, and failure to comply with other requirements of the sewer and storm water National Pollution Discharge Elimination System (“NPDES”) permits.

Under the partial settlement, Capital Region Water will implement various injunctive measures, including: Developing and implementing a Nine Minimum Controls Plan to bring its combined sewer system into good operation and maintenance and control combined sewer overflows; submitting an application for an individual NPDES MS4 permit for its storm water system with a plan for implementing the storm water Minimum Control Measures; conducting capacity assessment in the separate sewer system; completing biological nutrient removal upgrades to the Advanced Wastewater Treatment Facility by February 2016; completing several early action projects in the sewer system; and developing an LTCP by April 2018. The Partial Consent Decree resolves all claims against the City of Harrisburg. The Partial Consent Decree does not resolve the United States' and Commonwealth of Pennsylvania Department of Environmental Protection's claims regarding CRW's failure to implement an LTCP, and claims for civil penalties against CRW, which are reserved for future settlement among the parties.

The publication of this notice opens a period for public comment on the proposed Partial Consent Decree. Comments should be addressed to the Assistant Attorney General, Environment and Natural Resources Division, and should refer to United States and Commonwealth of Pennsylvania Department of Environmental Protection v. Capital Region Water and City of Harrisburg, PA, D.J. Ref. No. 90-5-1-1-10157. All comments must be submitted no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the proposed Partial Consent Decree may be examined and downloaded at this Justice Department Web site: http://www.usdoj.gov/enrd/Consent_Decrees.html. We will provide a paper copy of the proposed Partial Consent Decree upon written request and payment of reproduction costs. Please mail your request and payment to: Consent Decree Library, U.S. DOJ-ENRD, P.O. Box 7611, Washington, DC 20044-7611.

Please enclose a check or money order for $22.75 (25 cents per page reproduction cost) payable to the United States Treasury.

Maureen Katz,
Assistant Section Chief, Environmental Enforcement Section, Environment and Natural Resources Division.

[FR Doc. 2015-03298 Filed 2-17-15; 8:45 am]

BILLING CODE 4410-15-P